ENVIRONMENTAL PROTECTION AGENCY

40 CFR Part 52

[EPA-R08-OAR-2017-0298; FRL-9964-84-Region 8]

Approval and Promulgation; State of Utah; Salt Lake County and Utah County Nonattainment Area Coarse Particulate Matter State Implementation Plan Revisions to Control Measures for Point Sources

AGENCY: Environmental Protection Agency (EPA).

ACTION: Proposed rule.

SUMMARY: The Environmental Protection Agency (EPA) is proposing to approve certain state implementation plan (SIP) revisions submitted by Utah on January 4, 2016, and certain revisions submitted on January 19, 2017, for the coarse particulate matter (PM10) national ambient air quality standard (NAAQS) in the Salt Lake County and Utah County PM10 nonattainment areas. The revisions that the EPA is proposing to approve are located in Utah Division of Administrative Rule (DAR) R307-110-17 and SIP Subsection IX.H.1-4, and establish emissions limits for PM10, nitrogen oxides (NOx) and sulfur dioxide (SO2) for certain stationary sources in the nonattainment areas. These actions are being taken under section 110 of the Clean Air Act (CAA).

DATES: Written comments must be received on or before August 14, 2017.

ADDRESSES: Submit your comments, identified by Docket ID No. EPA-R08-OAR-2017-0298 at http://www.regulations.gov. Follow the online instructions for submitting comments. Once submitted, comments cannot be edited or removed from www.regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit http://www2.epa.gov/dockets/commenting-epa-dockets.

FOR FURTHER INFORMATION CONTACT: James Hou, Air Program, U.S. Environmental Protection Agency (EPA), Region 8, Mail Code 8P-AR, 1595 Wynkoop Street, Denver, Colorado 80202-1129, 303-312-6210, hou.james@epa.gov.

SUPPLEMENTARY INFORMATION:

I. General Information

a. Submitting Confidential Business Information (CBI). Do not submit CBI to the EPA through www.regulations.gov or email. Clearly mark the part or all of the information that you claim to be CBI. For CBI information in a disk or CD ROM that you mail to the EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2.

b. Tips for Preparing Your Comments. When submitting comments, remember to:

1. Identify the rulemaking by docket number and other identifying information (subject heading, Federal Register date and page number).

2. Follow directions—The agency may ask you to respond to specific questions or organize comments by referencing a Code of Federal Regulations (CFR) part or section number.

3. Explain why you agree or disagree; suggest alternatives and substitute language for your requested changes.

4. Describe any assumptions and provide any technical information and/or data that you used.

5. If you estimate potential costs or burdens, explain how you arrived at your estimate in sufficient detail to allow for it to be reproduced.

6. Provide specific examples to illustrate your concerns, and suggest alternatives.

7. Explain your views as clearly as possible, avoiding the use of profanity or personal threats.

8. Make sure to submit your comments by the comment period deadline identified.

II. Background

Under the 1990 amendments to the CAA, Salt Lake and Utah Counties were designated nonattainment for PM10 and classified as moderate areas by operation of law as of November 15, 1990 (56 FR 56694, 56840; November 6, 1991). The air quality planning requirements for moderate PM10 nonattainment areas are set out in subparts 1 and 4, part D, Title I of the Act. As described in section 110 and 172 of the Act, areas designated nonattainment based on failure to meet the PM10 NAAQS are required to develop SIPs with sufficient control measures to expeditiously attain and maintain the NAAQS.

On July 8, 1994, the EPA approved the PM10 SIP for Salt Lake and Utah Counties (59 FR 35036). The SIP included a demonstration of attainment and various control measures, including emission limits at stationary sources. Because emissions of SO2 and NOX contribute significantly to the PM10 problem in the area, the SIP included limits on emissions of SO2 and NOX in addition to emissions of PM10.

On September 26, 1995, the EPA designated Ogden City as nonattainment for PM10 and classified the area as moderate under section 107(d)(3) of the Act (60 FR 38726; July 28, 1995). Subsequently, the EPA approved a clean data determination for the Ogden City nonattainment area on January 7, 2013 (78 FR 885), suspending obligations to submit certain requirements of part D, subparts 1 and 4 of the Act for so long as the area continues to attain.

On July 3, 2002 Utah submitted SIP revisions adopting rule R307-110-10, which incorporated revisions to portions of Utah's SIP Section IX, Part A, and rule R307-110-17, which incorporated revisions to portions of Utah's SIP Section IX Part H. These revisions were approved by the EPA on December 23, 2002 (67 FR 78181). The revisions to Utah's SIP Section IX Part H removed several stationary sources subject to reasonably available control technology (RACT) requirements from the initial list of RACT sources in the Utah County nonattainment area, based on SIP threshold limits for PM10, NOx, and SO2 of 100 tpy, 200 tpy, and 250 tpy, respectively. In doing so, the number of major stationary sources included in the SIP for the Utah County nonattainment area was reduced from 14 sources to 5 sources. Notably, one of the sources retained in Utah's 2002 SIP was Geneva Steel, which underwent a protracted closure and had largely ceased operations by 2004. In 2005, the PacifiCorp—Lake Side Power Plant was constructed on a portion of the former Geneva Steel facility, utilizing banked emission credits from Geneva Steel's closure.

On January 4, 2016, Utah submitted SIP revisions to R307-110-17 titled “Section IX, Control Measures for Area and Point Sources, Part H, Emission Limits” and revisions to Subsection IX.H.1-4. The titles for Subsection IX.H.1-4 include: (1) General Requirements: Control Measures for Area and Point Sources, Emission Limits and Operating Practices, PM10 Requirements; (2) Source Specific Emission Limitations in Salt Lake County PM10 Nonattainment/Maintenance Area; (3) Source Specific Emission Limitations in Utah County PM10 Nonattainment/Maintenance Area; and (4) Interim Emission Limits and Operating Practices. Additionally, on January 19, 2017, Utah submitted revisions to Subsection IX.H.1-4. Further discussion of the revisions to R307-110-17 and Subsection IX.H.1-4 can be found below.

III. EPA's Evaluation of Utah's SIP

A. R307-110-17

1. Section R307-110-17 incorporates the amendments to Section IX.H into state rules, thereby making them effective as a matter of state law. This is a ministerial provision and does not by itself include any control measures.

B. Subsection IX.H.1-4

1. Subsection IX.H.1. General Requirements: Control Measures for Area and Point Sources, Emission Limits and Operating Practices, PM10 Requirements. This section establishes general requirements for record keeping, reporting, and monitoring for the stationary sources subject to emissions limits under subsections IX.H.2-4. Additionally, this section establishes general refinery requirements, addressing limitations on emitting units common to the refineries in the nonattainment areas. These general refinery requirements include limits at fluid catalytic cracking units, limits on refinery fuel gas, restrictions on liquid fuel oil consumption, requirement for sulfur removal units, and requirements for hydrocarbon flares.

2. Subsection IX.H.2. Source Specific Emission Limitations in Salt Lake County PM10 Nonattainment/Maintenance Area. This section establishes specific emission limitations for 14 sources. These sources are Big West Oil Refinery; Bountiful City Light and Power; Central Valley Reclamation Facility; Chevron Products Company; Hexcel Corporation; Holly Refining and Marketing Company; Kennecott Utah Copper (KUC): Bingham Canyon Mine; KUC: Copperton Concentrator; KUC: Power Plant and Tailings Impoundment; KUC: Smelter and Refinery; PacifiCorp Energy: Gadsby Power Plant; Tesoro Refining & Marketing Company; University of Utah; and West Valley Power Holdings, LLC. Major stationary sources were identified based on their potential to emit (PTE) of 100 tons per year (tpy) or more of PM10, NOx, or SO2. A summary of the current emission limits, for retained sources, is outlined in Table 1 below, and a summary of the proposed new emission limits is outlined in Table 2 below.

Table 1—Current Source Specific Emission Limitations in the Salt Lake County PM10 Nonattainment Area
Source | Pollutant | Process unit | Mass based limits | Concentration based limits | Alternative emission limits
Amoco Oil Company ¹ | PM10 NOX SO2 | Facility Wide Facility Wide Facility Wide | 113 tpy. 688 tpy. 2,013 tpy.
Bountiful City Light and Power | PM10 NOX SO2 | Facility Wide Facility Wide Facility Wide | 1.06 tpy. 250 tpy. 5.97.
Central Valley Water Reclamation Facility | PM10 NOX SO2 | Facility Wide Facility Wide Facility Wide | 0.67 tpy. 203.7 tpy. 3.95 tpy.
Chevron Products Company | PM10 NOX | Facility Wide Facility Wide | 175 tpy. 1,022 tpy.
| SO2 | Facility Wide | 2,578 tpy.
Flying J ² | PM10 | Facility Wide | 22 tpy.
| NOX | Facility Wide | 278.7 tpy.
| SO2 | Facility Wide | 864.6 tpy.
Hercules Aerospace Company—Plant #3 ³ |  |  |  |  | 175 MMscf natural gas per year. 10.8 MM pounds of carbon fiber produced per year.
Holly Refining and Marketing Company | PM10 NOX | Facility Wide Facility Wide | 0.416 tpd. 2.09 tpd.
| SO2 | Facility Wide | 0.31 tpd.
Kennecott Utah Copper: Bingham Canyon Mine |  |  |  |  | Maximum of 30,000 daily miles for waste haul trucks. Fugitive road dust emission controls.
Kennecott Utah Copper: Power Plant | PM10 NOX | Total Power Plant Total Power Plant | 257 tpy. 5085 tpy.
| SO2 | Total Power Plant | 6219 tpy.
Kennecott Utah Copper: Tailings Impoundment |  |  |  |  | Fugitive dust maintenance program and mitigation procedures.
Kennecott Utah Copper: Smelter | PM10 SO2 (daily avg) | Main Stack Main Stack | 400 lb/hr. 5,700 lb/hr.
| SO2 | Acid Plant Tail Gas | 1200 lb/hr | 650 ppmvd.
| NOX | Smelter Powerhouse | 20.8 lb/hr | 80/9 ppmdv.
| PM10 | Rotary Concentrate Dryer Stack | 4.2 lb/hr.
| NOX | Rotary Concentrate Dryer Stack | 7.1 lb/hr | 67 ppmdv.
Kennecott Utah Copper: Refinery | PM10 SO2 | Total Refinery Total Refinery | 51.9 tpy. 162.6 tpy.
| NOX | Total Refinery | 121 tpy.
University of Utah | PM10 | Source wide | 74.3 tpy.
| NOX | Source wide | 245.8 tpy.
| SO2 | Source wide | 219.3 tpy.
Utah Power and Light—Gadsby ⁴ | PM10 NOX | Source Wide Source wide | 61.3 tpy. 2,983 tpy.
| SO2 | Source wide | 67.7 tpy.
¹ The Amoco Oil Company facility corresponds with the Tesoro Refining and Marketing Company in the proposed emission limits of Table 2.
² The Flying J refinery corresponds with the Big West Oil facility in the proposed emission limits of Table 2.
³ The Hercules Aerospace Company—Plant #3 corresponds with the Hexcel Corporation in the proposed emission limits of Table 2.
⁴ Utah Power and Light—Gadsby, corresponds with PacifiCorp—Gadsby in the proposed emission limits of Table 2.

Table 2—Proposed Source Specific Emission Limitations in the Salt Lake County PM10 Nonattainment Area
Source | Pollutant | Process unit | Mass based limits | Concentration based limits | Alternative emission limits
Big West Oil | PM10 NOX SO2 | Facility Wide Facility Wide Facility Wide | 1.037 tons per day (tpd). 0.8 tpd. 0.6 tpd.
Bountiful City Light and Power | NOX NOX | GT#1 GT#2 and GT#3 | 0.6 g NOX/kW-hr. 7.5 lb NOX/hr.
Central Valley Water Reclamation Facility | NOX | Facility Wide | 0.648 tpd.
Chevron Products Company | PM10 NOX SO2 | Facility Wide Facility Wide Facility Wide | 0.715 tpd. 2.1 tpd. 1.05 tpd.
Hexcel Corporations |  |  |  |  | 5.50 MMscf natural gas per day. 0.061 MM pounds of carbon fiber produced per day.
Holly Refining and Marketing Company | PM10 NOX SO2 | Facility Wide Facility Wide | 0.416 tpd. 2.09 tpd. 0.31 tpd.
Kennecott Utah Copper: Bingham Canyon Mine |  |  |  |  | Maximum of 30,000 miles for waste haul trucks per day. Fugitive road dust emission control requirements.
Kennecott Copperton Concentrator |  |  |  |  | Requirement to operate a gas scrubber operated in accordance with parametric monitoring.
Kennecott Utah Copper: | PM10 | Power Plant Unit #5 | 18.8 lb/hr.
Power Plant and | NOX | Power Plant Unit #5 |  | 2.0 ppmdv (15% O2 dry).
Tailings Impoundment | NOX | Power Plant Unit #5 Startup/Shutdown | 395 lb/hr.
| PM10 (Filterable) | Units #1, #2, #3, and #4, Nov 1-Feb 28/29 | 0.004 grains/dscf.
| PM10 (Filterable + Condensable) | Units #1,# 2, #3, and #4, Nov 1-Feb 28/29 | 0.03 grains/dscf.
| NOX | Units #1,# 2, and #3, Nov 1-Feb 28/29 |  | 336 ppmdv (3% O2).
| NOX | Unit #4, Nov 1-Feb 28/29 |  | 336 ppmdv (3% O2).
| PM10 (Filterable) | Units #1,# 2, and #3, Mar 1-Oct 1 | 0.029 grains/dscf.
| PM10 (Filterable + Condensable) | Units #1,# 2, and #3, Mar 1-Oct 1 | 0.29 grains/dscf.
| PM10 (Filterable) | Unit #4, Mar 1-Oct 1 | 0.029 grains/dscf.
| NOX | Units #1,# 2, and #3, Mar 1-Oct 1 |  | 426.5 ppmdv (3% O2)
| NOX | Unit #4, Mar 1-Oct 1 |  | 384 ppmdv (3% O2)
Kennecott Utah Copper: Smelter and Refinery | PM10 (Filterable) | Main Stack | 89.5 lb/hr
| PM10 (Filterable + Condensable) | Main Stack | 439 lb/hr
| SO2 (3-hr rolling avg) | Main Stack | 552 lb/hr
| SO2 (daily avg) | Main Stack | 422 lb/hr
| NOX (daily avg) | Main Stack | 154 lb/hr
| NOX | Refinery: Sum of 2 tank house boilers | 9.5 lb/hr
| NOX | Refinery: Combined Heat Plant | 5.96 lb/hr
| NOX | Molybdenum Autoclave Project: Combined Heat Plant | 5.01 lb/hr
PacifiCorp Energy: Gadsby Power Plant | NOX | Steam Unit #1 | 179 lb/hr
| NOX | Steam Unit #2 | 204 lb/hr
| NOX | Steam Unit #3 | 142 lb./hr (Nov 1-Feb 28/29)
| NOX | Steam Unit #3 | 203 lb/hr (Mar 1-Oct 31)
Tesoro Refining and Marketing Company | PM10 NOX | Facility Wide Facility Wide | 2.25 tpd. 1.988 tpd.
| SO2 | Facility Wide | 3.1 tpd.
University of Utah | NOX | Boiler #3 |  | 9 ppmdv (3% O2 Dry).
|  | Boiler #4a & #4b |  | 9 ppmdv (3% O2 Dry).
|  | Boiler #5a & #5b |  | 9 ppmdv (3% O2 Dry).
|  | Turbine |  | 9 ppmdv (3% O2 Dry).
|  | Turbine and WHRU Duct burner |  | 15 ppmdv (3% O2 Dry).
West Valley Power ⁵ | NOX | Sum of all five turbines | 1,050 lb/day.
⁵ West Valley Power was not a listed source in the 1994 SIP for the Salt Lake County PM10 NAA.

3. Subsection IX.H.3. Source Specific Emission Limitations in Utah County PM10 Nonattainment/Maintenance Area. This section establishes specific emission limitations for 6 sources. These sources are Brigham Young University (BYU); Geneva Nitrogen Inc.; PacifiCorp Energy: Lake Side Power Plant; Payson City Corporation: Payson City Power; Provo City Power: Power Plant; and Springville City Corporation: Whitehead Power Plant. Major stationary sources were identified based on their PTE of 100 tons per year (tpy) or more for PM10, NOX, and SO2. It is important to note that the SIP threshold of 100 tpy for all three pollutants is less than the previous SIP major stationary source thresholds Utah established in its 2002 SIP revision. The 2002 SIP revision had established major stationary source thresholds for PM10, NOX, and SO2 at 100 tpy, 200 tpy, and 250 tpy, respectively. By lowering the SIP threshold to 100 tpy for all three pollutants, three sources are now added into the SIP. These sources are BYU, Payson City Power and PacifiCorp Energy—Lake Side Power Plant. PacifiCorp Energy—Lake Side Power Plant sits on a portion of the former Geneva Steel site. A summary of the current emission limits, for retained sources, is outlined in Table 3 below, and a summary of the proposed new emission limits are outlined in Table 4 below.

Table 3—Current Source Specific Emission Limitations in the Utah County PM10 Nonattainment Area
Source | Pollutant | Process unit | Mass based limits | Concentration based limits | Alternative emission limits
Geneva Nitrogen Inc: Geneva Plant | PM10 | Prill Tower | 0.24 tpd
| NOX | Montecatini Plant | 0.389 tpd
| NOX | Weatherly Plant | 0.233 tpd
Provo City Power: Power Plant | NOX | All engines combined | 2.45 tpd
Springville City Corporation: Whitehead Power Plant | NOX | All engines combined | 1.68 tpd

Table 4—Proposed Source Specific Emission Limitations in the Utah County PM10 Nonattainment Area
Source | Pollutant | Process unit | Mass based limits | Concentration based limits | Alternative emission limits
Brigham Young University | NOX | Unit #1 ⁶ | 9.55 lb/hr | 95 ppmdv (7% O2 Dry).
| NOX | Unit #2 | 37.4 lb/hr | 331 ppmdv (7% O2 Dry).
| SO2 | Unit #2 | 56.0 lb/hr | 597 ppmdv (7% O2 Dry).
| NOX | Unit #3 | 37.4 lb/hr | 331 ppmdv (7% O2 Dry).
| SO2 | Unit #3 | 56.0 lb/hr | 597 ppmdv (7% O2 Dry).
| NOX | Unit #4 ⁷ | 19.2 lb/hr | 127 ppmdv (7% O2 Dry).
| NOX | Unit #5 | 74.8 lb/hr | 331 ppmdv (7% O2 Dry).
| SO2 | Unit #5 | 112.07 lb/hr | 597 ppmdv (7% O2 Dry).
| NOX | Unit #6 ⁷ | 19.2 lb/hr | 127 ppmdv (7% O2 Dry).
Geneva Nitrogen Inc.: Geneva Plant | PM10 | Prill Tower | 0.236 tpd.
| PM2.5 | Prill Tower | 0.196 tpd.
| NOX | Montecatini Plant | 30.8 lb/hr.
| NOX | Weatherly Plant | 18.4 lb/hr.
PacifiCorp Energy: Lakeside Power Plant | NOX | Block #1 Turbine/HRSG Stacks | 14.9 lb/hr.
| NOX | Block #2 Turbine/HRSG Stacks | 18.1 lb/hr.
Payson City Corporation: Payson City Power | NOX | All engines combined | 1.54 tpd.
Provo City Power: Power Plant | NOX | All engines combined | 2.45 tpd.
Springville City Corporation: Whitehead Power Plant | NOX | All engines combined | 1.68 tpd.
⁶ The NOX limit for Unit #1 is 95 ppm (9.55 lb/hr) until it operates for more than 300 hours during a rolling 12-month period, then the limit will be 36 ppm (5.44 lb/hr). This will be accomplished through the installation of low NOX burners with Flue Gas Recirculation.
⁷ The NOX limit for Units #4 and #6 is 127 ppm (38.5 lb/hr) until December 31, 2018, at which time the limit will then be 36 ppm (19.2 lb/hr).

4. Subsection IX.H.4. Interim Emission Limits and Operating Practices. R307-110-17 Section IX, Control Measures for Area and Point Sources, Part H, Emission Limits. This section establishes interim emission limits for sources whose new emission limits under Subsections IX.H.2 and 3 are based on controls that are not currently installed, with the provision that all necessary controls needed to meet the emission limits under Subsection IX.H.2 and IX.H.3 shall be installed by January 1, 2019. A summary of the proposed interim emission limits is outlined in Table 5 below.

Table 5—Proposed Interim Emission Limits and Operating Practices
Source | Pollutant | Process unit | Mass based limits | Concentration based limits | Alternative emission limits
Big West Oil | PM10 | Facility Wide | 0.377 tpd Oct 1-March 31. 0.407 tpd April 1-Sept 30
| SO2 | Facility Wide | 2.764 tpd Oct 1-March 31. 3.639 tpd April 1-Sept 30
| NOX | Facility Wide | 1.027 tpd Oct 1-Mar 31. 1.145 tpd Apr 1-Sep 30
Chevron Products Company | PM10 | Facility Wide | 0.234 tpd.
| SO2 | Facility Wide | 0.5 tpd.
| NOX | Facility Wide | 2.52 tpd.
Holly Refining and Marketing Company | PM10 | Facility Wide | 0.44 tpd.
| SO2 | Facility Wide | 4.714 tpd.
| NOX | Facility Wide | 2.20 tpd.
Tesoro Refining and Marketing Company | PM10 | Facility Wide | 0.261 tpd.
| SO2 | Facility Wide | 3.699 tpd Nov 1-Feb 28/29. 4.374 tpd Mar 1-Oct 31
| NOX | Facility Wide | 1.988 tpd.

IV. Consideration of Section 110(l) of the CAA

Under section 110(l) of the CAA, the EPA cannot approve a SIP revision if the revision would interfere with any applicable requirements concerning attainment and reasonable further progress (RFP) toward attainment of the NAAQS, or any other applicable requirement of the Act. In addition, section 110(l) requires that each revision to an implementation plan submitted by a state shall be adopted by the state after reasonable notice and public hearing.

The Utah SIP revisions that the EPA is proposing to approve do not interfere with any applicable requirements of the Act. The DAR section R307-110-17 and Subsection IX.H.1-4, submitted January 4, 2016, and January 19, 2017 are intended to strengthen the SIP. Therefore, CAA section 110(l) requirements are satisfied.

Specifically, the proposed emission limits for the retained sources in the Salt Lake County nonattainment area will result in a reduction of PM10, SO2, and NOX emissions by 10.64 tpd, 12.87 tpd and 29.97 tpd, respectively, when compared to the limits established in the original PM10 SIP. Given the large net decrease in emissions from the retained major stationary sources in the Salt Lake County nonattainment area, the proposed action will enhance the area's ability to attain or maintain the NAAQS.

The proposed emissions from Geneva Nitrogen, Provo City Power Plant, and the Springville City Corporation—Whitehead Power Plant are consistent with the 2002 SIP revisions for Utah County. Additionally, this proposed action adds three sources—BYU, Payson City Power and PacifiCorp Energy—Lake Side Power Plant. Both BYU and Payson City Power have been in existence since the original 1994 SIP, and BYU was initially included as a source in the original 1994 SIP, but was removed in 2002. The inclusion of these two sources do not reflect an increase in emissions into the Utah County nonattainment area airshed, but rather reflect a change in the approach of how stationary sources are included into the SIP. PacifiCorp Energy—Lake Side Power Plant is also being added into the SIP, but its addition does not reflect an emissions increase to the nonattainment area because the facility was required to use offsetting emissions, largely made available through the closure of the Geneva Steel facility. The closing of Geneva Steel resulted in the removal of approximately 1,700 tpy PM10, 1,400 tpy SO2, and 4,200 tpy NOX from the Utah County airshed. These emission reductions were banked and made available for purchase for future major source construction and modifications. In order to construct the Lakeside Power Plant, banked emission credits were purchased and used at an offset ratio of 1.2:1 (e.g. For every 1.0 tpy of emissions allowed at the Lakeside Power Plant, 1.2 tpy of banked emission credits must be spent from the Utah emissions credit offset registry.). In total the Lakeside Power Plant utilized banked emission credits for PM10, SO2, and NOX in the amounts of 257 tpy, 66 tpy, and 337 tpy, respectively. Given the offset ratio required for the construction of the Lakeside Power Plant, the inclusion of this source into the SIP does not result in any emissions increase to the Utah County airshed, and actually reflects a net decrease from the 2002 SIP. As a result of the decreased emissions from the closure of the Geneva Steel facility, and the offsetting ratio required to construct the Lake Side Power Plant, the proposed revision to the Utah County PM10 SIP will enhance the area's ability to attain or maintain the NAAQS.

V. Summary of Proposed Action and Request for Public Comment

The EPA is proposing approval and requesting public comment on revisions to Administrative Rule R307-110-17 and revisions to Subsection IX.H.1-4 as submitted by the State of Utah on January 4, 2016, and January 19, 2017. These revisions establish emissions limitations and related requirements for certain stationary sources of PM10, NOX and SO2, and will therefore serve to continue progress towards attainment and maintenance of the PM10 NAAQS in the nonattainment areas. The proposed revisions reflect more stringent emission levels for total emissions of PM10, SO2, and NOX for each of the affected facilities, as well as updates the inventory of major stationary sources to accurately reflect the current sources in both the Salt Lake County and Utah County nonattainment areas (e.g., removing sources which no longer exist, or are now covered under an area source rule). The updated list of sources and revised emission limits for the major stationary sources in the two nonattainment areas will serve to enhance both area's ability to attain or maintain the NAAQS.

VI. Incorporation by Reference

In this rule, the EPA is proposing to include in a final EPA rule regulatory text that includes incorporation by reference. In accordance with requirements of 1 CFR 51.5, the EPA is proposing to incorporate by reference the DAQ PM10 SIP revisions as discussed in section III of this preamble. The EPA has made, and will continue to make, these materials generally available through www.regulations.gov and/or at the EPA Region 8 Office (please contact the person identified in the FOR FURTHER INFORMATION CONTACT section of this preamble for more information).

VII. Statutory and Executive Order Reviews

Under the CAA, the Administrator is required to approve a SIP submission that complies with the provisions of the Act and applicable federal regulations. 42 U.S.C. 7410(k); 40 CFR 52.02(a). Thus, in reviewing SIP submissions, the EPA's role is to approve state choices, provided that they meet the criteria of the CAA. Accordingly, this action merely proposes to approve state law as meeting federal requirements and does not impose additional requirements beyond those imposed by state law. For that reason, this proposed action:

• Is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Public Law 104-4);

• does not have federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the CAA; and

• does not provide the EPA with the discretionary authority to address, as appropriate, disproportionate human health or environmental effects, using practicable and legally permissible methods, under Executive Order 12898 (59 FR 7629, February 16, 1994).

In addition, the SIP is not approved to apply on any Indian reservation land or in any other area where the EPA or an Indian tribe has demonstrated that a tribe has jurisdiction. In those areas of Indian country, the proposed rule does not have tribal implications and will not impose substantial direct costs on tribal governments or preempt tribal law as specified by Executive Order 13175 (65 FR 67249, November 9, 2000).

List of Subjects in 40 CFR Part 52

Environmental protection, Air pollution control, Ammonia, Incorporation by reference, Intergovernmental relations, Nitrogen dioxide, Particulate matter, Reporting and recordkeeping requirements, Sulfur dioxide, Volatile organic compounds.

Authority: 42 U.S.C. 7401 et seq.

Dated: June 30, 2017.
Debra H. Thomas,
Acting Regional Administrator, Region 8.

[FR Doc. 2017-14748 Filed 7-12-17; 8:45 am]

BILLING CODE 6560-50-P